DEPARTMENT OF HEALTH AND HUMAN SERVICES

Centers for Disease Control and Prevention

[Program Announcement 02213]

The National Black Caucus of State Legislators (NBCSL); Notice of Award of Funds

A. Purpose

The Centers for Disease Control and Prevention (CDC) announces the award of fiscal year (FY) 2002 funds for a cooperative agreement program with The National Black Caucus of State Legislators.

The purpose of this cooperative agreement is to:

1. Educate African-American State Legislators, legislative staff, State government employees, and other stakeholders on HIV/AIDS, syphilis and other STD.

2. Provide access to accurate, comprehensive and timely information on HIV/AIDS, syphilis and other STD to African-American State legislators, legislative staff, State government employees, and other stakeholders.

This program addresses the “Healthy People 2010” focus areas of HIV, STD and Educational and Community-Based Programs.

B. Eligible Applicant

Assistance is provided only to the NBCSL. No other applications were solicited.

NBCSL is the only nonpartisan organization serving as a national network, and clearinghouse for African-American State legislators from all 50 States. NBCSL is the only organization of African-American State legislators that provides policy research tailored to meet the needs of their constituents, publications, consulting services, and educational and networking forums for African-American State legislators, committees, and their staff using a variety of information technologies and resources. No other organization has this unique role, credibility, and established rapport with African-American State legislators and their staff.

C. Funds

Approximately $150,000 is being awarded in FY 2002. The award will begin on or about September 30, 2002 and will be made for a 12-month budget period within a project period of up to three years.

D. Where To Obtain Additional Information

Business management technical assistance may be obtained from: Ann Cole, Grants Management Specialist, Grants Management Branch, Procurement and Grants Office, Centers for Disease Control and Prevention, 2920 Brandywine Road, Room 3000, Atlanta, GA 30341-4146, Telephone number: 770-488-2731, E-mail address: zlr5@cdc.gov.

For program technical assistance, contact: Dave Brownell, National Center for HIV, STD, and TB Prevention, Centers for Disease Control and Prevention, 2920 Brandywine Road, Room 3000, Atlanta, GA 30341-4146, Telephone number: 404-639-5208, E-mail address: dfb2@cdc.gov.

Dated: September 20, 2002.
Sandra R. Manning,
CGFM, Director, Procurement and Grants Office, Centers for Disease Control and Prevention.

[FR Doc. 02-24577 Filed 9-26-02; 8:45 am]

BILLING CODE 4163-18-P